DEPARTMENT OF STATE

[Public Notice: 5180]

60-Day Notice of Proposed Information Collection: Form DS-71, Affidavit of Identifying Witness; OMB No. 1405-0088

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Affidavit of Identifying Witness.

• OMB Control Number: 1405-0088.

• Type of Request: Revision of a Currently Approved Collection.

• Originating Office: Bureau of Consular Affairs, Department of State, Passport Services, Office of Field Operations, Field Coordination Division. CA/PPT/FO/FC.

• Form Number: DS-71.

• Respondents: Individuals or Households.

• Estimated Number of Respondents: 140,000.

• Estimated Number of Responses: 140,000.

• Average Hours per Response: 1/12 (5 min.).

• Total Estimated Burden: 11,700.

• Frequency: On occasion.

• Obligation to Respond: Required to Obtain a Benefit.

DATES: The Department will accept comments from the public up to 60 days from September 6, 2005.

ADDRESSES: You may submit comments by any of the following methods:

• E-mail: Cowlishawsc@state.gov. You must include the DS form number (if applicable), information collection title, and OMB control number in the subject line of your message.

• Mail (paper, disk, or CD-ROM submissions): Susan Cowlishaw, U.S. Department of State, CA/PPT/FO/FC, 2100 Pennsylvania Avenue, NW., 3rd Floor/Room 3040/SA-29, Washington, DC 20037.

FOR FURTHER INFORMATION CONTACT: Direct requests for additional information regarding the collection listed in this notice, including requests for copies of the proposed information collection and supporting documents, to Susan Cowlishaw, U.S. Department of State, CA/PPT/FO/FC, 2100 Pennsylvania Avenue, NW., 3rd Floor/Room 3040/SA-29, Washington, DC 20037, who may be reached on (202) 261-8957 or Cowlishawsc@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

The Affidavit of Identifying Witness (Form DS-71) is used by the Department of State in making a determination of the applicant's eligibility to be documented as a citizen or a non-citizen national of the United States. The form is used by Acceptance Agents and Consular Officers to collect information for the purpose of establishing the identity of a passport applicant who has not submitted adequate evidence with his/her passport application. The primary purpose for soliciting the information is to establish identity and entitlement to issuance of a U.S. passport, and to properly administer and enforce the laws pertaining to issuance thereof. Lack of identity information may result in the refusal to issue a U.S. passport. Inaccurate identity evidence could possibly result in issuance of a passport to a non-U.S. citizen or to anyone using an assumed identity.

Methodology

The Affidavit of Identifying Witness (Form DS-71) is used in conjunction with the Application for a U.S. Passport (Form DS-11). Along with the DS-71, the customer's insufficient or unacceptable identity documents are recorded. The identifying witness completes the form for a person applying for a passport who is unable to properly identify himself or herself at the acceptance facility/passport agency in the presence of the Acceptance Agent/Consular Officer.

Dated: August 18, 2005.
Ann Barrett,
Acting Deputy Assistant Secretary for Passport Services, Bureau of Consular Affairs, Department of State.

[FR Doc. 05-17637 Filed 9-2-05; 8:45 am]

BILLING CODE 4710-06-P